DEPARTMENT OF THE INTERIOR

Bureau of Land Management

[NV-050-5853-ES; N-59514, N-77790]

Notice of Realty Action: Segregation Terminated, Lease/Conveyance for Recreation and Public Purposes (R&PP)

AGENCY: Bureau of Land Management, Interior.

ACTION: Segregation terminated, Recreation and Public Purposes lease/conveyance.

SUMMARY: Clark County, Nevada has relinquished an R&PP lease (N-59514) for a fire station site on 2.5 acres of public land in Las Vegas, Nevada. The fire station site is proposed to be relocated on nearby public land (N-77790), located in Clark County, Nevada, which BLM has determined is suitable for classification for lease/conveyance to Clark County.

FOR FURTHER INFORMATION CONTACT: Beth Domowicz, BLM Realty Specialist, (702) 515-5147.

SUPPLEMENTARY INFORMATION: Clark County, Nevada has relinquished an R&PP lease (N-59514) for a fire station on public lands due to development in the area that made the land unsuitable for the proposed use. These lands in Las Vegas, Clark County, Nevada are described as follows:

N-59514

Mount Diablo Meridian, Nevada

T. 22 S., R. 60 E., Sec. 24, NW¼NW¼SW¼NW¼.

Consisting of 2.5 acres.

The segregation of the subject land for R&PP (N-59514) under the Notice published in the Federal Register volume 61, page 1944, dated January 24, 1996, will be terminated upon publication of this notice.

The following described public land in Las Vegas, Clark County, Nevada has been examined and found suitable for lease/conveyance for recreational or public purposes under provisions of the Recreation and Public Purposes (R&PP) Act, as amended (43 U.S.C. 869 et seq.). Clark County proposes to use the land for a fire station.

N-77790

Mount Diablo Meridian, Nevada

T. 22 S., R. 60 E.,

Sec. 24, NE¼NE¼SW¼NW¼.

Consisting of 2.5 acres

The public land is not required for any Federal purpose. Lease/conveyance is consistent with current Bureau planning for this area and would be in the public interest. The lease/conveyance, when issued, will be subject to the provisions of the Recreation and Public Purposes Act and applicable regulations of the Secretary of the Interior and will contain the following reservations to the United States:

1. A right-of-way thereon for ditches and canals constructed by the authority of the United States, Act of August 30, 1890 (43 U.S.C. 945).

2. All minerals shall be reserved to the United States, together with the right to prospect for, mine and remove such deposits from the same under applicable law and such regulations as the Secretary of the Interior may prescribe.

And will be subject to:

1. All valid and existing rights.

Detailed information concerning this action is available for review at the office of the Bureau of Land Management, Las Vegas Field Office, 4701 N. Torrey Pines Drive, Las Vegas, Nevada 89130.

Upon publication of this notice in the Federal Register, the public lands described in N-77790 will be segregated from all other forms of appropriation under the public land laws, including the general mining laws, except for lease/conveyance under the Recreation and Public Purposes Act, leasing under the mineral leasing laws and disposal under the mineral material disposal laws.

Interested parties may submit comments regarding the proposed classification for lease/conveyance of the public lands to the Field Manager, Las Vegas Field Office, 4701 N. Torrey Pines Drive, Las Vegas, Nevada 89130 until March 14, 2005.

Classification Comments: Interested parties may submit comments involving the suitability of the public land for the proposed facilities. Comments on the classification are restricted to whether the land is physically suited for the proposal, whether the use will maximize the future use or uses of the land, whether the use is consistent with local planning and zoning or if the use is consistent with State and Federal programs.

Application Comments: Interested parties may submit comments regarding the specific use proposed in the application and plan of development, whether the BLM followed proper administrative procedures in reaching the decision or any other factor not related to the suitability of the land for the proposed church facilities. Any adverse comments will be reviewed by the State Director who may sustain, vacate, or modify this Realty action. In the absence of any adverse comments, the classification of the land described in the Notice will become effective on March 29, 2005. The lands will not be offered for lease/conveyance until after the classification becomes effective.

Dated: December 28, 2004.
Sharon DiPinto,
Assistant Field Manager, Division of Lands.

[FR Doc. 05-1600 Filed 1-27-05; 8:45 am]

BILLING CODE 4310-HC-P